DEPARTMENT OF STATE

[Public Notice 6325]

In the Matter of the Review of the Designation of Real Irish Republican Army as a Foreign Terrorist Organization Pursuant to Section 219 of the Immigration and Nationality Act, as Amended

Based upon a review of the Administrative Record assembled in this matter, and in consultation with the Attorney General and the Secretary of the Treasury, I conclude that there is a sufficient factual basis to find that the circumstances that were the basis for the 2003 re-designation of the Real Irish Republican Army as a foreign terrorist organization have not changed in such a manner as to warrant revocation of the designation and that the national security of the United States does not warrant a revocation.

Therefore, I hereby determine that the designation of the Real Irish Republican Army as a foreign terrorist organization, pursuant to Section 219 of the Immigration and Nationality Act, as amended (8 U.S.C. 1189), shall be maintained.

This determination shall be published in the Federal Register.

Dated: August 11, 2008.
John D. Negroponte,
Deputy Secretary of State, Department of State.

[FR Doc. E8-19282 Filed 8-19-08; 8:45 am]

BILLING CODE 4710-10-P